DEPARTMENT OF TRANSPORTATION

Federal Aviation Administration

Advisory Circular (AC) 150/5345-53C, Airport Lighting Equipment Certification Program; Proposed Update and Opportunity To Comment

AGENCY: Federal Aviation Administration (FAA), US DOT.

ACTION: Notice of update of AC150/5345-53B to AC150/5345-53C.

SUMMARY: The FAA proposes to replace AC150/5345-53B to AC150/5345-53C to clarify the criteria under the Airport Lighting Equipment Certification Program (ALECP) for acceptance of an organization as a third party certification body (third party certifier) and how manufactures may get equipment qualified under the program. The Secretary of Transportation is providing notice in the Federal Register of, and an opportunity for public comment on, AC150/535-43C, Airport Lighting Equipment Certification Program.

DATES: Comments must be submitted on or before August 12, 2005.

ADDRESSES: Comments may be delivered or mailed to the FAA, Airport Engineering Division, AAS-100, Room 619, 800 Independence Avenue, SW., Washington, DC 20591.

FOR FURTHER INFORMATION CONTACT: Mr. Rick Marinelli, Manager, Airport Engineering Division, AAS-100, Room 619, FAA, 800 Independence Avenue, SW., Washington, DC 20591, Telephone (202) 267-7669.

SUPPLEMENTARY INFORMATION: Existing Advisory Circular (AC) 150/5345-53B, Airport Lighting Equipment Certification Program, describes the Airport Lighting Equipment Certification Program (ALECP). It provides information on how an organization can get Federal Aviation Administration (FAA) acceptance as a third party certification body (third party certifier) and how manufacturers may get equipment qualified under the program. The FAA proposes to replace AC150/5345-53B with AC150/5345-53C to clarify the criteria under the Airport Lighting Equipment Certification Program (ALECP) for acceptance of an organization as a third party certification body (third party certifier) and how manufacturers may get equipment qualified under the program. The draft document is available on the Internet. At the same Internet site is a letter to manufacturer relating to the Airport Lighting Equipment Certification Program, dated May 31, 2005. The Office of Airport Safety and Standards may revise the final AC as a result of comments received and further review.

Both the draft AC150/5345-53C and the May 31, 2005, letter to manufacturers may be obtained from the FAA Airports Internet site at http://www.faa.gov/arp/publications/acs/draftacs.cfm.

For any further information please contact Mr. Rick Marinelli, Manager, Airport Engineering Division, at (202) 267-7669.

Issued in Washington, DC on June 21, 2005.
David L. Bennett,
Director of Airport Safety and Standards.

[FR Doc. 05-12723 Filed 6-27-05; 8:45 am]

BILLING CODE 4910-13-M